FEDERAL ELECTION COMMISSION

[NOTICE 2021—01]

Filing Dates for the Louisiana Special Election in the 2nd Congressional District Special Election

AGENCY: Federal Election Commission.

ACTION: Notice of filing dates for special election.

SUMMARY: Louisiana has scheduled a Special General Election on March 20, 2021, to fill its U.S. House of Representatives seat in the 2nd Congressional District being vacated by Representative Cedric L. Richmond. Under Louisiana law, a majority winner in a Special General Election is declared elected. Should no candidate achieve a majority vote, a Special Runoff Election will be held on April 24, 2021, between the top two vote-getters. Political committees participating in the Louisiana special elections are required to file pre- and post-election reports. Filing deadlines for these reports are affected by whether one or two elections are held.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

If two elections are held, all principal campaign committees of candidates who participate in both the Louisiana Special General and Special Runoff Elections shall file a 12-day Pre-General Report on March 8, 2021; a 12-day Pre-Runoff Report on April 12, 2021; and a 30-day Post-Runoff Report on May 24, 2021. Principal campaign committees of candidates who participate only in the Special General Election shall file a 12-day Pre-General Report on March 8, 2021. (See charts below for the closing date for each report.)

If only one election is held, all principal campaign committees of candidates in the Special General Election shall file a 12-day Pre-General Report on March 8, 2021; and a 30-day Post-General Report on April 19, 2021. (See charts below for the closing date for each report.)

Note that these reports are in addition to the campaign committee's regular quarterly filings. (See charts below for the closing date for each report.)

Unauthorized Committees (PACs and Party Committees)

Political committees not filing monthly in 2021 are subject to special election reporting if they make previously undisclosed contributions or expenditures in connection with the Louisiana Special General and/or Special Runoff Elections by the close of books for the applicable report(s). (See charts below for the closing date for each report.)

Committees filing monthly that make contributions or expenditures in connection with the Louisiana Special General and/or Special Runoff Elections will continue to file according to the monthly reporting schedule.

Additional disclosure information for the Louisiana special elections may be found on the FEC website at https://www.fec.gov/help-candidates-and-committees/dates-and-deadlines/.

Disclosure of Lobbyist Bundling Activity

Principal campaign committees, party committees and leadership PACs that are otherwise required to file reports in connection with the special election must simultaneously file FEC Form 3L if they receive two or more bundled contributions from lobbyists/registrants or lobbyist/registrant PACs that aggregate in excess of the lobbyist bundling disclosure threshold during the special election reporting periods. (See charts below for closing date of each period.) 11 CFR 104.22(a)(5)(v), (b), 110.17(e)(2), (f).

The lobbyist bundling disclosure threshold for calendar year 2020 was $19,000. This threshold amount may change in 2021 based upon the annual cost of living adjustment (COLA). As soon as the adjusted threshold amount is available, the Commission will publish it in the Federal Register and post it on its website. 11 CFR 104.22(g) and 110.17(e)(2). For more information on these requirements, see Federal Register Notice 2009-03, 74 FR 7285 (February 17, 2009).

Calendar of Reporting Dates for Louisiana Special Election(s)
Report | Close of books ¹ | Reg./cert. & overnight mailing deadline | Filing deadline
IF ONLY ONE ELECTION IS HELD, CAMPAIGN COMMITTEES INVOLVED IN THE SPECIAL GENERAL (03/20/2021) MUST FILE:
Pre-General | 02/28/2021 | 03/05/2021 | 03/08/2021
Post-General | 04/09/2021 | 04/19/2021 | 04/19/2021
April Quarterly | --- WAIVED ---
July Quarterly | 06/30/2021 | 07/15/2021 | 07/15/2021
IF ONLY ONE ELECTION IS HELD, PACS AND PARTY COMMITTEES NOT FILING MONTHLY INVOLVED IN THE SPECIAL GENERAL
(03/20/2021) MUST FILE:
Pre-General | 02/28/2021 | 03/05/2021 | 03/08/2021
Post-General | 04/09/2021 | 04/19/2021 | 04/19/2021
Mid-Year | 06/30/2021 | 07/31/2021 | ² 07/31/2021
IF TWO ELECTIONS ARE HELD, CAMPAIGN COMMITTEES INVOLVED IN ONLY THE SPECIAL GENERAL (03/20/2021) MUST FILE:
Pre-General | 02/28/2021 | 03/05/2021 | 03/08/2021
April Quarterly | 03/31/2021 | 04/15/2021 | 04/15/2021
IF TWO ELECTIONS ARE HELD, PACS AND PARTY COMMITTEES NOT FILING MONTHLY INVOLVED IN ONLY THE SPECIAL GENERAL (03/20/2021) MUST FILE:
Pre-General | 02/28/2021 | 03/05/2021 | 03/08/2021
Mid-Year | 06/30/2021 | 07/31/2021 | ² 07/31/2021
IF TWO ELECTIONS ARE HELD, CAMPAIGN COMMITTEES INVOLVED IN BOTH THE SPECIAL GENERAL (03/20/2021) AND SPECIAL RUNOFF (04/24/2021) MUST FILE:
Pre-General | 02/28/2021 | 03/05/2021 | 03/08/2021
Pre-Runoff | 04/04/2021 | 04/09/2021 | 04/12/2021
April Quarterly | --- WAIVED ---
Post-Runoff | 05/14/2021 | 05/24/2021 | 05/24/2021
July Quarterly | 06/30/2021 | 07/15/2021 | 07/15/2021
IF TWO ELECTIONS ARE HELD, PACS AND PARTY COMMITTEES NOT FILING MONTHLY INVOLVED IN BOTH THE SPECIAL GENERAL (03/20/2021) AND SPECIAL RUNOFF (04/24/2021) MUST FILE:
Pre-General | 02/28/2021 | 03/05/2021 | 03/08/2021
Pre-Runoff | 04/04/2021 | 04/09/2021 | 04/12/2021
Post-Runoff | 05/14/2021 | 05/24/2021 | 05/24/2021
Mid-Year | 06/30/2021 | 07/31/2021 | ² 07/31/2021
IF TWO ELECTIONS ARE HELD, PACS AND PARTY COMMITTEES NOT FILING MONTHLY INVOLVED IN ONLY THE SPECIAL RUNOFF (04/24/2021) MUST FILE:
Pre-Runoff | 04/04/2021 | 04/09/2021 | 04/12/2021
Post-Runoff | 05/14/2021 | 05/24/2021 | 05/24/2021
Mid-Year | 06/30/2021 | 07/31/2021 | ² 07/31/2021
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

Dated: January 15, 2021.
On behalf of the Commission,
Ellen L. Weintraub,
Commissioner, Federal Election Commission.

[FR Doc. 2021-01395 Filed 1-21-21; 8:45 am]

BILLING CODE 6715-01-P